DEPARTMENT OF DEFENSE

Office of the Secretary

[Transmittal No. 0L-15]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Sarah A. Ragan or Heather N. Harwell, DSCA/LMO, (703) 604-1546/(703) 607-5339.

The following is a copy of a letter to the Speaker of the House of Representatives, Transmittal 0L-15 with attached Policy Justification.

Dated: October 23, 2015.
Aaron Siegel,
Alternate OSD Federal Register Liaison Officer, Department of Defense.

BILLING CODE 5001-06-P

BILLING CODE 5001-06-C

Transmittal No. 0L-15

REPORT OF ENHANCEMENT OR UPGRADE OF SENSITIVITY OF TECHNOLOGY OR CAPABILITY (SEC. 36(B)(5)(C), AECA)

(i) Purchaser: Kingdom of Saudi Arabia

(ii) Sec. 36(b)(1), AECA Transmittal No.: 08-101

Date: 26 September 2008

Military Department: Navy

(iii) Description: On 26 September 2008, Congress was notified by Congressional Notification Transmittal Number 08-101, of the possible sale under Section 36(b)(1) of the Arms Export Control Act (AECA) of eighty (80) Link 16 Multifunctional Information Distribution System/Low Volume Terminals (MIDS/LVT-1) to be installed on Kingdom of Saudi Arabia Typhoon aircraft, data transfer devices, installation, testing, spare and repair parts, support equipment, personnel training, training equipment, contractor engineering and technical support, and other related elements of program support. The estimated cost was $31 million. Major Defense Equipment (MDE) constituted $30 million of this total.

This transmittal reports the addition of seventy-six (76) Link 16 MIDS/LVT-1 to be installed on Saudi Arabia's Tornado aircraft, SAAB 2000 Erieye Airborne Early Warning and Control (AEW&C) aircraft, and Tactical Airborne Surveillance System (TASS) aircraft data transfer devices. Also included are installation, testing, spare and repair parts, support equipment, personnel training, training equipment, contractor engineering and technical support, and other related elements of program support. This notification will result in an increase in major defense equipment (MDE) of $30 million, for a total estimated MDE value of $60 million, and a total overall value of $61 million.

(iv) Significance: This notification is being provided to increase the quantity of MIDS/LVT-1 on platforms other than those notified in Transmittal number 08-101 on 26 Sep 2008. The expansion of MIDS to other platforms continues a modernization program that has been ongoing since 2008. Overall, the ability for these additional platforms to support Link 16 operations provides added interoperability with U.S. forces and for conducting coordinated operations.

(v) Justification: This sale will contribute to the foreign policy and national security of the United States by helping to improve the security of a friendly country that has been, and continues to be, an important force for political stability and economic progress in the Middle East.

(vi) Date Report Delivered to Congress: 05 Oct 2015.

[FR Doc. 2015-27502 Filed 10-28-15; 8:45 am]

BILLING CODE 5001-06-P